DEPARTMENT OF DEFENSE

Department of the Army; Corps of Engineers

Notice of Availability of the Final Environmental Impact Statement for the Proposed Everglades Agricultural Area (EAA) A-1 Reservoir located in Palm Beach County, FL

AGENCY: U.S. Army Corps of Engineers, DoD.

ACTION: Notice of availability.

SUMMARY: The U.S. Army Corps of Engineers (USACE) is issuing this notice to advise the public that a Final Environmental Impact Statement (FEIS) has been completed and is available for review and comment.

DATES: In accordance with the National Environmental Policy Act (NEPA), the USACE has filed the FEIS with the U.S. Environmental Protection Agency (EPA) for publication of their notice of availability in the Federal Register. The EPA notice officially starts the 30-day review period for this document. It is the goal of the USACE to have the this notice published on the same date as the EPA notice. However, if that does not occur, the date of the EPA notice will determine the closing date for comments on the FEIS. Comments on the FEIS must be submitted to the address below under Further Contact Information and must be received no later than 5 p.m. Eastern Standard Time, Monday, June 19, 2006.

ADDRESSES: The FEIS can be viewed online at http://www.saj.usace.army.mil/pao/hotTopics/hot_topics_acceler8.htm (follow the link to New Information). Copies of the FEIS are also available for review at the following libraries:

Belle Glade Branch Public Library, 530 S. Main Street, Belle Glade, FL 33430

Palm Beach County Main Library, 3650 Summit Blvd., W. Palm Beach, FL 33406

Clewiston Public Library, 120 W. Osceola Ave., Clewiston, FL 33440

Pahokee Branch Public Library, 525 Bacom Point Rd., Pahokee, FL 33476

Legislative Library, 701 The Capitol, Tallahassee, FL 32399-1300

Glades County Public Library, PO Box 505, Riverside Dr., Moorehaven, FL 33471

South Bay Public Library, 375 SW. 2nd Ave., South Bay, FL 33493

FOR FURTHER INFORMATION CONTACT: Ms. Tori White, U.S. Army Corps of Engineers, Jacksonville District, 1400 Centrepark Suite 750, West Palm Beach, Florida 33410, Telephone: 561-472-8888.

SUPPLEMENTARY INFORMATION: The proposed action by the South Florida Water Management District (SFWMD) is construction and operation of a 16,768-acre water supply reservoir located north of Stormwater Treatment Area 3/4 and between the Miami and North New River Canals in the EAA in Palm Beach County, Florida. The purpose of the EAA Reservoir A-1 is to store water from stormwater runoff and releases from Lake Okeechobee at any given time. As part of the USACE's review process, this FEIS has been prepared.

The SFWMD's proposed project, identified as Cell A-1, has the same footprint as a portion of the Selected Plan, identified in the USACE's September 2005 Draft Integrated Project Implementation Report (PIR)/EIS and the February 2006 Revised Draft Integrated PIR/EIS for the Comprehensive Everglades Restoration Plan (CERP) EAA Storage Reservoirs project, which features a two-cell reservoir impoundment with a maximum normal pool storage depth of 12 feet at approximately 31,000 acres of above ground surface area storage. The SFWMD proposes to construct the EAA Reservoir A-1 project prior to implementation of the CERP EAA Storage Reservoirs project. The proposed project includes an open water reservoir with a capacity of 190,000 acre-feet at an approximate depth of 12.5 feet. The reservoir would be constructed on a 16,768-acre parcel of land. The USACE is proceeding with two separate and independent but related actions, the regulatory evaluation of the SFWMD's proposed EAA Reservoir A-1 project and the planning evaluation of the federal CERP EAA Storage Reservoirs project, both of which are described in the September 2005 Draft Integrated PIR/EIS and February 2006 Revised Draft Integrated PIR/EIS. The USACE and SFWMD had anticipated that the SFWMD would accelerate construction and achievement of benefits of certain CERP projects by obtaining required permits and initiating construction upon completion of the FEIS for the federal CERP project. Because of delays in completion of the FEIS for the CERP EAA Storage Reservoirs project, the SFWMD is pursuing a Department of the Army permit prior to completion of the CERP EAA Storage Reservoirs FEIS. Accordingly, this FEIS has been prepared by the Regulatory Division to address the environmental impacts of the SFWMD's proposed project. The Regulatory Division of the USACE is evaluating the SFWMD's proposed EAA Reservoir A-1 while the USACE Civil Works Planning Process continues with a separate and independent evaluation of the CERP project. Any regulatory decision on the SFWMD's proposed project will not affect the planning process and consideration of alternatives for the federal CERP EAA Storage Reservoirs project. The SFWMD's Acceler8 project may ultimately be a component of the federal CERP EAA Storage Reservoirs project. If it is not a part of the federal recommended plan, it will be considered as a locally preferred plan.

Dated: May 11, 2006.
Erik L. Stor,
Major(P), Corps of Engineers, Deputy Commander.

[FR Doc. E6-7644 Filed 5-18-06; 8:45 am]

BILLING CODE 3710-92-P